DEPARTMENT OF AGRICULTURE

Forest Service

California Coast Provincial Advisory Committee

AGENCY: Forest Service, USDA.

ACTION: Notice of meeting.

SUMMARY: The California Coast Provincial Advisory Committee (CCPAC) will meet on October 4-5, 2006, in Upper Lake California. The purpose of the meeting is to discuss issues relating to implementing the Northwest Forest Plan (NWFP).

DATES: The meeting will be held from 10 a.m. to 4:30 p.m. on October 4, 2006 and 8:30 a.m. to 3:30 p.m. on October 5, 2006.

ADDRESSES: October 4, 2006, is a day-long field trip to the Upper Lake Ranger District, 10025 Elk Mountain Road, Upper Lake, California. On October 5, 2006, the meeting will be held at the Tallman Hotel Conference Room, 9550 Main Street, Upper Lake, California.

FOR FURTHER INFORMATION CONTACT: Kathy Allen, Committee Coordinator, USDA, Six Rivers National Forest, 1330 Bayshore Way, Eureka, CA 95501, (707) 441-3557, kmallen@fs.fed.us.

SUPPLEMENTARY INFORMATION: The field trip is to the Pillsbury Stewardship Project and the Westshore Fuels Reduction Project. Agenda topics to be covered on October 5, 2006, include: (1) Marbled Murrelet Presentation; (2) Northwest Forest Plan 10-year Monitoring Reports; (3) Survey and Mange Final Supplemental EIS; and (4) New Mexico Forest Restoration Principles.

The meeting is open to the public. Public input opportunity will be provided and individuals will have the opportunity to address the Committee at that time.

Dated: September 8, 2006.
Tyrone Kelley,
Designated Federal Official.

[FR Doc. 06-7650 Filed 9-13-06; 8:45 am]

BILLING CODE 3410-11-M